DEPARTMENT OF HEALTH AND HUMAN SERVICES

Centers for Disease Control and Prevention

[60Day-04-02]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Childhood Lead Poisoning Prevention Program Quarterly Report (OMB No. 0920-0282)—Renewal—National Center for Environmental Health (NCEH), Centers for Disease Control and Prevention (CDC).

Lead poisoning is the most common and societally devastating environmental disease of young children in the United States. The adverse health effects of lead on young children can be profound. Severe lead exposure can cause coma, convulsions, and even death. Lower levels of lead, which rarely cause symptoms, can result in decreased intelligence, developmental disabilities, behavioral disturbances, and disorders of blood production. In 1992, the Centers for Disease Control and Prevention (CDC) began the National Childhood Lead Surveillance Program at the National Center for Environmental Health (NCEH). The goals of the childhood lead surveillance program are to: (1) Establish childhood lead surveillance systems at the state and national levels; (2) use surveillance data to estimate the extent of elevated blood-lead levels among children; (3) assess the follow-up of children with elevated blood-lead levels; (4) examine potential sources of lead exposure; and (5) help allocate resources for lead poisoning prevention activities.

The quarterly report is designed to collect blood lead screening and test confirmation data from CDC-funded programs. The quarterly report consists of four data tables requiring the following information: (1) The number of children screened by age and Medicaid enrollment status; (2) the number of children screened and confirmed by blood lead level; (3) the number of children screened by ethnicity; and (4) the number of children screened by race.

Respondents | Number of respondents | Responses/respondent | Average burden/respondent (in hours) | Total burden (in hours)
State and Local Grant and Cooperative Agreement Programs | 42 | 4 | 2 | 336
Total | 42 |  |  | 336

Dated: October 6, 2003.
Nancy E. Cheal,
Acting Associate Director for Policy, Planning and Evaluation, Centers for Disease Control and Prevention.

[FR Doc. 03-25694 Filed 10-9-03; 8:45 am]

BILLING CODE 4163-18-P